FEDERAL COMMUNICATIONS COMMISSION

47 CFR Part 73

[DA 01-134; MM Docket No. 01-13, RM-10038]

Radio Broadcasting Services; Woodbury, GA

AGENCY: Federal Communications Commission.

ACTION: Proposed rule.

SUMMARY: The Commission requests comments on a petition filed by Bernice P. Hedrick proposing the allotment of Channel 233A at Woodbury, Georgia, as the community's first local aural transmission service. Channel 233A can be allotted at Woodbury in compliance with the Commission's minimum distance separation requirements with a site restriction of 13.0 kilometers (8.1 miles) southeast to avoid short-spacings to the licensed sites of Station WSTR(FM), Channel 231C, Smyrna, Georgia, and Station WYSF(FM), Channel 233C, Birmingham, Alabama. The coordinates for Channel 233A at Woodbury are 32-54-40 North Latitude and 84-28-24 West Longitude.

DATES: Comments must be filed on or before March 12, 2001, reply comments on or before March 27, 2001.

ADDRESSES: Federal Communications Commission, Washington, DC 20554. In addition to filing comments with the FCC, interested parties should serve the petitioner, or its counsel or consultant, as follows: Bernice P. Hedrick, P.O. Box 27, 317 Stonegables Court, Gray, Georgia 31032 (Petitioner).

FOR FURTHER INFORMATION CONTACT: Sharon P. McDonald, Mass Media Bureau, (202) 418-2180.

SUPPLEMENTARY INFORMATION: This is a synopsis of the Commission's Notice of Proposed Rule Making, MM Docket No. 01-13, adopted January 10, 2001, and released January 19, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 01-2751 Filed 1-31-01; 8:45 am]

BILLING CODE 6712-01-P